SECURITIES AND EXCHANGE COMMISSION

Proposed Collection; Comment Request

Upon written request, copies available from: Securities and Exchange Commission, Office of Investor Education and Advocacy, Washington, DC 20549.

Extension: Investor Form, SEC File No. 270-485, OMB Control No. 3235-0547.

Notice is hereby given pursuant to the Paperwork Reduction Act of 1995 (44 U.S.C. 3501 et seq.) that the Securities and Exchange Commission (“Commission”) is soliciting comments on the collection of information summarized below. The Commission plans to submit this existing collection of information to the Office of Management and Budget for extension and approval.

In both 2006 and 2007, the Commission received over a million contacts from investors who have complaints or questions on a wide range of investment-related issues. These contacts generally fall into the following three categories:

(a) Complaints against Commission-regulated individuals or entities;

(b) questions concerning the federal securities laws, companies or firms that the Commission regulates, or other investment-related questions; and

(c) tips concerning potential violations of the federal securities laws.

Investors who submit complaints, ask questions, or provide tips do so voluntarily. To make it easier for the public to contact the agency electronically, the Commission created a series of investor complaint and question Web forms. Investors can access these forms through the SEC Center for Complaints and Enforcement Tips at http://www.sec.gov/complaint.shtml. The Commission is now going to consolidate those forms into one form (the Investor Form) which will ask for the same information, but also provide several drop down options to choose from in order to categorize the investor's complaint, and possibly provide the investor with information about that issue. The investor will have the same opportunity to describe their complaint, and they will be free to submit it without their name or contact information.

Although the Investor Form provides a structured format for incoming investor correspondence, the Commission does not require that investors use any particular form or format when contacting the agency. To the contrary, investors may submit complaints, questions, and tips through a variety of other means, including telephone, letter, facsimile, or e-mail. Approximately 20,000 investors each year voluntarily choose to use the complaint and question forms.

Investors who choose not to use the Investor Form receive the same level of service as those who do. The dual purpose of the form is to make it easier for the public to contact the agency with complaints, questions, tips, or other feedback and to streamline the workflow of the Commission staff who handle those contacts.

The Commission has used—and will continue to use—the information that investors supply on the complaint and question forms, and the Investor Form to review and process the contact (which may, in turn, involve responding to questions, processing complaints, or, as appropriate, initiating enforcement investigations), to maintain a record of contacts, to track the volume of investor complaints, and to analyze trends.

As with the previous forms, the Investor Form will ask investors to provide information concerning, among other things, their names, how they can be reached, the names of the individuals or entities involved, the nature of their complaint or tip, what documents they can provide, and what, if any, actions they have taken.

Use of the Investor Form is strictly voluntary. Moreover, the Commission does not require investors to submit complaints, questions, tips, or other feedback. Absent the forms, the public still has several ways to contact the agency, including telephone, facsimile, letters, and e-mail. Nevertheless, the Commission created these forms to make it easier for the public to contact the agency with complaints, questions, or tips. The forms further streamline the workflow of Commission staff who record, process, and respond to investor contacts.

The staff of the Commission estimates that the total reporting burden for using the complaint and question forms is 5,000 hours. The calculation of this estimate depends on the number of investors who use the forms each year and the estimated time it takes to complete the forms: 20,000 respondents × 15 minutes = 5,000 burden hours.

Written comments are invited on: (a) Whether the proposed collection of information is necessary for the proper performance of the functions of the agency, including whether the information will have practical utility; (b) the accuracy of the agency's estimate of the burden of the collection of information; (c) ways to enhance the quality, utility, and clarity of the information collected; and (d) ways to minimize the burden of the collection of information on respondents, including through the use of automated collection techniques or other forms of information technology. Consideration will be given to comments and suggestions submitted in writing within 60 days of this publication.

Please direct your written comments to R. Corey Booth, Director/Chief Information Officer, Securities and Exchange Commission, C/O Shirley Martinson, 6432 General Green Way, Alexandria, VA 22312; or send an e-mail to: PRA_Mailbox@sec.gov.

Dated: April 28, 2008.
Florence E. Harmon,
Deputy Secretary.

[FR Doc. E8-9692 Filed 5-1-08; 8:45 am]

BILLING CODE 8010-01-P